LIBRARY OF CONGRESS

Copyright Royalty Board

[Docket No. 21-CRB-0013-BER (2024-2028)]

Determination of Royalty Rates and Terms for Making Ephemeral Copies of Sound Recordings for Transmission to Business Establishments (Business Establishments IV)

AGENCY: Copyright Royalty Board, Library of Congress.

ACTION: Notice announcing commencement of proceeding with request for Petitions to Participate.

SUMMARY: The Copyright Royalty Judges (Judges) announce commencement of a proceeding to determine reasonable royalty rates and terms for the recording of ephemeral copies of sound recordings to facilitate digital audio transmissions of those sound recordings to business establishments pursuant to the limitation on exclusive rights specified by the Copyright Act. The royalty rates and terms the Judges determine in this proceeding will apply during the period beginning January 1, 2024, and ending December 31, 2028. The Judges also announce the date by which a party wishing to participate in the rate determination proceeding must file its Petition to Participate and pay the accompanying $150 filing fee.

DATES: Petitions to Participate and the filing fee are due no later than February 4, 2022.

ADDRESSES: The petition to participate form is available online in eCRB, the Copyright Royalty Board's online electronic filing application, at https://app.crb.gov/.

Instructions: The petition to participate process has been simplified. Interested parties file a petition to participate by completing and filing the petition to participate form in eCRB and paying the fee in eCRB. Do not upload a petition to participate document.

Docket: For access to the docket to read submitted documents, go to eCRB, the Copyright Royalty Board's electronic filing and case management system at https://app.crb.gov/ and search for docket number 21-CRB-0013-BER (2024-2028).

FOR FURTHER INFORMATION CONTACT: Anita Blaine, CRB Program Specialist, (202) 707-7658, crb@loc.gov.

SUPPLEMENTARY INFORMATION: The Copyright Act provides that the Copyright Royalty Judges (Judges) commence a proceeding every fifth year ¹ to determine royalty rates and terms for the recording of ephemeral copies of sound recordings pursuant to the statutory license in 17 U.S.C. 112(e)(1) to facilitate digital audio transmissions of those sound recordings to business establishments pursuant to the limitation on exclusive rights specified by 17 U.S.C. 114(d)(1)(C)(iv). See 17 U.S.C. 804(b)(2). This notice commences the rate determination proceeding for the license period 2024-2028, inclusive. Section 803(b)(1)(A)(i)(II) directs the Judges to publish in the Federal Register a notice commencing this proceeding by no later than January 5, 2022.

¹ The Judges commenced a proceeding to determine the 2019-2023 rates and terms in 2017. See 82 FR 143 (Jan. 3, 2017).

Petitions To Participate

Parties with a significant interest in the outcome of the “business establishments” royalty rate proceeding must provide the information required by § 351.1(b) of the Judges' regulations by completing and filing the Petition to Participate form in eCRB. Parties must pay the $150 filing fee when filing each Petition to Participate form. 37 CFR 351.1(b). Parties must use the form in eCRB instead of uploading a document.

Only attorneys who are admitted to the bar in one or more states or the District of Columbia and are members in good standing will be allowed to represent parties before the Judges. Only an individual may represent herself or himself and appear without legal counsel. 37 CFR 303.2.

Dated: December 16, 2021.
Suzanne M. Barnett,
Chief Copyright Royalty Judge.

[FR Doc. 2021-27669 Filed 1-4-22; 8:45 am]

BILLING CODE 1410-72-P